DEPARTMENT OF COMMERCE

Foreign-Trade Zones Board

[S-6-2018]

Foreign-Trade Zone 98—Birmingham, Alabama; Application for Expansion of Subzone 98D; Hyster-Yale Group, Inc. Sulligent, Alabama

An application has been submitted to the Foreign-Trade Zones Board (the Board) by the City of Birmingham, grantee of FTZ 98, requesting an expansion of Subzone 98D on behalf of Hyster-Yale Group, Inc., in Sulligent, Alabama. The application was submitted pursuant to the provisions of the Foreign-Trade Zones Act, as amended (19 U.S.C. 81a-81u), and the regulations of the FTZ Board (15 CFR part 400). It was formally docketed on January 10, 2018.

The subzone currently consists of one site located at 7711 Highway 278 East in Sulligent, Alabama. The applicant is now requesting authority to include an additional site: Proposed Site 2 (13 acres)—7668 Highway 278, Sulligent. No additional production authority is being requested at this time. As requested, the entire subzone would be subject to the existing activation limit of FTZ 98.

In accordance with the FTZ Board's regulations, Qahira El-Amin of the FTZ Staff is designated examiner to review the application and make recommendations to the Executive Secretary.

Public comment is invited from interested parties. Submissions shall be addressed to the Board's Executive Secretary at the address below. The closing period for their receipt is February 26, 2018. Rebuttal comments in response to material submitted during the foregoing period may be submitted during the subsequent 15-day period to March 13, 2018.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Qahira El-Amin at Qahira.El-Amin@trade.gov or (202) 482-5928.

Dated: January 11, 2018.
Elizabeth Whiteman,
Acting Executive Secretary.

[FR Doc. 2018-00699 Filed 1-16-18; 8:45 am]

BILLING CODE 3510-DS-P